DEPARTMENT OF THE INTERIOR

Fish and Wildlife Service

Notice of Permit Application and Safe Harbor Agreement Between the Fish and Wildlife Service and the Malpai Borderlands Group

AGENCY: U.S. Fish and Wildlife Service, Interior.

ACTION: Notice of availability and 30-day public comment period.

SUMMARY: The Malpai Borderlands Group (Applicant) has applied to the U.S. Fish and Wildlife Service (Service) for an incidental take permit pursuant to Section 10(a)(1)(A) of the Endangered Species Act (Act). The Applicants have been assigned permit number TE-073684-0. The requested permit, which is for a period of 50 years, would authorize the take of the Threatened Chiricahua leopard frog (Rana chiricahuensis). The proposed take could occur as a result of conservation measures implemented on the approximately 1 million acres (404,700 hectares) identified in the application and associated documents in Cochise County, Arizona and Hidalgo County, New Mexico. Conservation measures consist of stock tank development and restoration, including modification of stock tanks to enhance their use by Chiricahua leopard frogs and renovation to remove bullfrogs and other non-native predators. Currently, within the Agreement area, Chiricahua leopard frogs are only known to occur in a few locations, including three populations on the Magoffin property. These three populations on the Magoffin property exist solely due to the extraordinary efforts of the landowners to establish and maintain them prior to listing of the species. Thus, they are excluded from the baseline for the purposes of this Safe Harbor Agreement (Agreement). The Applicants, in cooperation with the Service, have prepared the Agreement to provide a conservation benefit to the species and allow for the take of the species. Based upon guidance in the Service's June 17, 1999, Final Safe Harbor Policy, if an Agreement and associated permit are not expected to individually or cumulatively have a significant impact on the quality of the human environment or other natural resources, the Agreement/permit may be categorically excluded from undergoing National Environmental Policy Act review. The Malpai Agreement qualifies as a “Low Effect” Agreement, thus, this action is a categorical exclusion. The “Low Effect” determination for the Malpai Agreement is also available for public comment. This notice is provided pursuant to Section 10(c) of the Act and National Environmental Policy Act regulations (40 CFR 1506.6).

DATES: Written comments on the application should be received by November 5, 2003.

ADDRESSES: Persons wishing to review the application, Agreement, and “Low Effect” determination may obtain copies by writing to the Regional Director, U.S. Fish and Wildlife Service, P.O. Box 1306, Room 4102, Albuquerque, New Mexico 87103, or by contacting the Field Supervisor, Arizona Ecological Services Field Office, 2321 West Royal Palm Road, Suite 103, Phoenix, Arizona 85021-4951 (602) 242-0210. Documents relating to the application will be available for public inspection by written request, by appointment only, during normal business hours (8 to 4:30) at the U.S. Fish and Wildlife Service, Arizona Ecological Services Field Office, Phoenix, Arizona.

Written data or comments concerning the application and Agreement should be submitted to the Field Supervisor, U.S. Fish and Wildlife Service, Arizona Ecological Services Field Office, 2321 West Royal Palm Road, Suite 103, Phoenix, Arizona 85021-4951. Please refer to permit number TE-073684-0 (Malpai) when submitting comments.

FOR FURTHER INFORMATION CONTACT: Field Supervisor at the above U.S. Fish and Wildlife Service, Arizona Ecological Services Field Office, Phoenix, Arizona (602) 242-0210.

SUPPLEMENTARY INFORMATION:

Background

The Malpai Borderlands Group (Applicants) plan to implement conservation measures on approximately 1 million acres (404,700 hectares) in Cochise County, Arizona, and Hidalgo County, New Mexico. The conservation measures will improve and maintain livestock tanks and other artificial waters and use them to establish Chiricahua leopard frog populations. The Agreement as currently written is expected to provide a net conservation benefit to the Chiricahua leopard frog. The Agreement will provide protection to the Applicants against further regulation under the Endangered Species Act in the event that the Chiricahua leopard frog naturally or artificially establishes populations in the area as a result of implementation of the proposed conservation measures.

Section 9 of the Act prohibits the “taking” of threatened or endangered species. However, the Service, under limited circumstances, may issue permits to take threatened and endangered wildlife species incidental to, and not the purpose of, otherwise lawful activities. Regulations governing permits for endangered species are at 50 CFR 17.22 and 50 CFR 17.32 for threatened species.

Bryan Arroyo,
Acting Regional Director, Region 2, Albuquerque, New Mexico.

[FR Doc. 03-25236 Filed 10-3-03; 8:45 am]

BILLING CODE 4510-55-P